DEPARTMENT OF THE INTERIOR

Geological Survey

Technology Transfer Act of 1986

AGENCY: U.S. Geological Survey, Interior.

ACTION: Notice of Proposed Cooperative Research & Development Agreement (CRADA) Negotiations.

SUMMARY: The United States Geological Survey (USGS) is contemplating entering into a Cooperative Research and Development Agreement (CRADA) with Mala Geoscience, Inc. to investigate the applications of advanced surface and borehole electromagnetic and impulse radar systems to hydrologic problems and other near-surface imaging problems.

Inquiries: If any other parties are interested in similar activities with the USGS, please contact John W. Lane, Jr., U.S. Geological Survey, 11 Sherman Place, U-5010 Storrs Mansfield, CT 06269; phone (860) 487-7402, x.13/fax (860) 487-8802.

SUPPLEMENTARY INFORMATION: This notice is submitted to meet the USGS policy requirements stipulated in Survey Manual Chapter 500.20.

Dated: February 28, 2002.
Robert M. Hirsch,
Associate Director for Water.

[FR Doc. 02-5844 Filed 3-11-02; 8:45 am]

BILLING CODE 4310-Y7-M